ELECTION ASSISTANCE COMMISSION

Sunshine Act Meeting Notice

AGENCY: United States Election Assistance Commission.

ACTION: Notice of public meeting agenda.

DATE AND TIME: Tuesday, August 10, 2004, 10 a.m.-12 noon.

PLACE: U.S. Election Assistance Commission, 1225 New York Ave., NW., Suite 1100, Washington, DC 20005 (Metro Stop: Metro Center)

AGENDA: The purpose of this meeting will be to receive updates and reports on the following: the Federal Voting Assistance Program Best Practices for Military and Overseas Voting, the EAC November Election Research Project, the EAC National Poll Worker Initiative and other general updates since the last public meeting. The Commission will also review recommendations on the National Voter Registration Form and the HAVA College Program.

PERSON TO CONTACT FOR INFORMATION: Bryan Whitener, Telephone: (202) 566-3100.

DeForest B. Soaries, Jr.,
Chairman, U.S. Election Assistance Commission.

[FR Doc. 04-17696 Filed 7-29-04; 4:02 am]

BILLING CODE 6820-MP-M